AGENCY FOR INTERNATIONAL DEVELOPMENT

Information Collection Review Request for OMB Approval: BHA Workplace Culture Survey

AGENCY: U.S. Agency for International Development.

ACTION: Notice of information collection; request for comment.

SUMMARY: USAID's Bureau for Humanitarian Assistance (USAID/BHA) proposes to survey all members of its workforce to assess and gauge its processes for developing and improving a more cohesive BHA culture. This survey is also sent to institutional support contractors (ISCs), which are part of the USAID workforce but are members of the public for purposes of the Paperwork Reduction Act of 1995 (PRA). USAID/BHA invites the general public and other Federal agencies to take this opportunity to comment on the following new information collection as it relates to ISCs, as required by the PRA. Written comments and recommendations for the proposed information collection should be sent within 30 days of publication of this notice to www.reginfo.gov/public/do/PRAMain. Find this particular information collection by selecting “Currently under 30-day Review—Open for Public Comments” or by using the search function.

DATES: Written comments and recommendations for the proposed information collection should be sent within 30 days of publication of this notice to www.reginfo.gov/public/do/PRAMain.

ADDRESSES: You may send comments (titled `BHA Workforce Culture Survey Comments') by any of the following methods:

• Email: Kathryn Oberholzer at koberholzer@usaid.gov.

• Mail: Kathryn Oberholzer at Bureau for Humanitarian Assistance, 555 12th Street NW, Washington, DC 20004.

FOR FURTHER INFORMATION CONTACT: Kathryn Oberholzer, (571) 212-9899, koberholzer@usaid.gov.

SUPPLEMENTARY INFORMATION:

Type of Information Collection: BHA Workplace Culture Survey.

Type of Request: Notice for public comment.

Originating Office: USAID Bureau for Humanitarian Affairs.

Respondents: BHA personnel, including ISCs that are not federal employees for PRA purposes.

Respondent's Obligation to Respond: Voluntary.

Estimated Number of Respondents: 400.

Average Time per Response: 15 minutes for survey respondents.

Frequency of Response: Approximately once per year.

Total Estimated Burden: 100 hours.

Total Estimated Burden Cost: None.

We are soliciting public comments to permit USAID/BHA to include ISCs in its workforce survey to assess and gauge its processes for developing and improving a more cohesive BHA culture.

Danielle Mutone Smith,
Managing Director, Bureau for Humanitarian Assistance.

BHA Culture Survey Questions

**Privacy Act Statement**

Please see the Privacy Act Statement in its entirety in the ensuing section.

Introduction

As a part of the transformation of the Office of Foreign Disaster Assistance (OFDA) and Food For Peace (FFP) into BHA in 2020, we enlisted the support of USAID Staff Care organizational consultants to both assess the cultures* of FFP and OFDA, and then engage staff in the design of a BHA culture that melds the best of both offices. To that end, BHA conducted a cultural assessment survey in March/April 2020, which has informed Staff Care's culture work with BHA offices and senior management. This culminated in a July 2021 workshop where office representatives integrated all the office-level work on culture into a BHA-wide culture document.

In 2021 BHA conducted a second culture survey. This survey was implemented and analyzed by the Training Resources Group, Inc. (TRG) to ensure confidentiality of responses. TRG analyzed the data and shared results from the survey with BHA leadership and staff in early 2022. Subsequently, BHA Offices held meetings to focus on individual office results and action planning discussions.

The 2021 survey provides baseline data for our 2023 survey. This year's survey will allow us to gauge the process to date on developing a BHA culture.

Your participation is critical, so please note this survey is confidential. While we will be requesting demographic information so that we can analyze survey responses in a variety of ways, this information will not be attached to individuals who respond, and TRG consultants will be the only ones with access to the raw data.

(*Culture for the purposes of this survey means BHA's values, norms and behaviors that guide and inform BHA staff and how we work together.)

(*Culture for the purposes of this survey means BHA's values, norms and behaviors that guide and inform BHA staff and how we work together.)

Unit defined as: The immediate BHA team/office/group that you work closest with.

Bureau leadership defined as: BHA Front Office, Office directors based in Washington, DC.

Privacy Act Statement

In accordance with E.O. 14035: Executive Order on Diversity, Equity, Inclusion, and Accessibility in the Federal Workforce, we are collecting information relating to the culture of BHA and to the morale of all of our employees to help inform efforts to improve workplace culture.

BHA intends to use the voluntarily-given basic demographic information along with responses gauging morale and workplace culture at an aggregate level to examine where pain points in BHA's approach to work may be. With information about how employees of different genders, sexual identities, hiring mechanisms, disability statuses, and racial or ethnic groups feel about their unit and BHA's culture, office and bureau leadership will be better informed about how to focus and prioritize efforts related to culture change. Identifying how staff feel about their workplace culture and what factors are affecting their morale will allow leaders at all levels in the bureau to create a better culture and improve conditions for groups where needed. The survey will be sent to staff at their USAID email address, the survey will indicate that staff will be asked for their consent to share demographic data, which they may decline to provide at their discretion. Staff will be notified about the purpose of the collection, what will be done with the information provided, and how the information will be retained and protected.

We will use this information to inform office and bureau-level follow up actions. Additionally, leaders at different levels in the bureau will be able to use the disaggregated data to inform their office culture improvement action plans. We plan to conduct annual cultural surveys to continue to track and invest in BHA culture change over time. Information will not be shared with any other entity or source, and will not be used for any other purpose beyond what is specified here.

In order to isolate the data from anyone who would have the ability to identify participants, our consultant partner, the Training Resources Group, Inc. (TRG), will execute, house, and disaggregate the data from this survey, protecting this information with the utmost integrity in accordance with their corporate privacy policies. No PII will be collected or shared. Two individuals in TRG will have access to the raw data only through two-factor authentication. Further, raw data will be deleted after one year after which a new culture survey will be disseminated to BHA staff.

Proposed Questions

Demographics

1. For which part of BHA do you work?

a. Office of Field and Response Operations (FARO)

b. Office of Humanitarian Business and Management Operations (HBMO)

c. Office of Technical and Program Quality (TPQ)

d. Office of Global Policy, Partnerships, Programs, and Communications (G3PC)

e. Office of Asia, Latin America, and the Caribbean (ALAC)

f. Office of Africa (OA)

g. Office of Middle East, North Africa, and Europe (MENAE)

h. Regional/country based

i. Prefer Not to Respond

2. What is your hiring mechanism?

a. U.S. Personal Services Contracts (USPSC)

b. USPSC-Support Relief Group (USPSC-SRG)

c. Third Country National Personal Services Contract (TCNPSC)

d. Local Personal Services Contractor (Local PSC)

e. Foreign Service National (FSN)

f. Political Appointee

g. Civil Service (CS)

h. Foreign Service (FS)

i. Foreign Service Limited (FSL)

j. Civil Service Excepted (CSE)

k. Participating Agency Service Agreement (PASA)

l. Participating Agency Service Agreement Detailer (PASA Detailer)

m. Institutional Contractor

n. Fellow

o. Intern

p. Other

q. Prefer Not to Respond

3. How long have you been with BHA (including OFDA/FFP time)?

a. 0-1 year

b. 1-3 years

c. 4-7 years

d. 8-15 years

e. 15+ years

4. With which racial and ethnic group(s) do you identify? Please mark all that apply.

a. Native American or Alaska Native

b. East Asian, South Asian, Southeast Asian

c. North African/Middle Eastern

d. African

e. Black or African American

f. Hispanix or Latinx

g. White

h. Native Hawaiian or other Pacific Islander

i. Other

j. Prefer Not to Respond

5. Do you identify as a gender or sexual minority?

a. Yes, I identify as a gender or sexual minority.

b. No, I do not identify as a gender or sexual minority.

c. Prefer Not to Respond

6. How do you describe your disability/ability status? Please mark all that apply.

a. Yes, I have a disability for which I have sought a reasonable accommodation.

b. Yes, I have a disability for which I have NOT sought a reasonable accommodation.

c. No, I do not have a disability.

d. I prefer not to respond.

7. Do you lead, manage or supervise other members of the BHA workforce?

a. Yes

b. No

Workplace Culture (Values/Norms/Behaviors)

8. I feel my workplace values are aligned with BHA values?

a. Totally Disagree, Somewhat Disagree, Neutral, Somewhat Agree, Totally Agree, No opinion (same scale for 10-20)

9. I feel that my teammates trust me.

10. I trust my teammates.

11. I feel valued by those in my unit.

12. I value my unit members.

13. (OPTIONAL) My US/Field counterpart respects my input and opinions.

a. Optional, if applicable

14. I feel I can disclose a suspected misconduct, violation of any law, rule or regulation without fear of reprisal.

15. What do you most value about BHA culture? (500 characters)

Leadership

16. Unit leadership listens to and respects me/my work.

17. I feel that a workforce of all cultures and backgrounds are made to feel included and valued in BHA.

18. Bureau leadership and/or regional office leads create opportunities for all voices and perspectives to be heard and valued in an environment of trust.

19. I feel Bureau and unit leadership clearly communicate their decisions.

20. I feel unit leadership advances DEIA and other efforts to improve culture.

Morale

21. My work morale is:

a. Very Low, Low, Somewhat Low, Neutral, Somewhat High, Very High

22. The morale of my unit is:

a. Very Low, Low, Somewhat Low, Neutral, Somewhat High, Very High

23. The morale of BHA is:

a. Very Low, Low, Somewhat Low, Neutral, Somewhat High, Very High

24. I am comfortable (check all that apply):

a. Using workplace flexible options if available to you.

b. Signing off at a regular hour.

c. Taking time off from work.

d. Not responding to emails during off hours, unless urgent.

25. What four factors impact your morale the most (check all that apply)?

a. USAID plans for returning to the office

b. Prioritization of work

c. Amount of work

d. Issues around DEIA

e. Issues around Harassment, Sexual Harassment, and Bullying

f. Management Issues (transparency, accessibility, changes in)

g. Interpersonal relationships with my colleagues

h. Issues around systems/processes

i. Ability to fully express my ideas and thoughts about work

j. Support and empowerment in advancing my career

k. Personal Issues

l. Other (50 characters)

26. If you selected “Other” to the previous question, please provide your description here.

Final Comments

1. Where should leadership focus its attention over the next year to continue to build culture? (500 characters)

[FR Doc. 2024-07240 Filed 4-4-24; 8:45 am]

BILLING CODE 6116-01-P